DEPARTMENT OF TRANSPORTATION

Federal Aviation Administration

Notice Before Waiver with Respect to Land at Shenandoah Valley Regional Airport, Staunton, VA

AGENCY: Federal Aviation Administration (FAA), DOT.

ACTION: Notice of intent of waiver with respect to land.

SUMMARY: The FAA is publishing notice of proposed release of 7.6± acres of land (Parcels 24 and 25) at the Shenandoah Valley Regional Airport, Staunton, Virginia to the Virginia Department of Transportation in exchange for 4.48± acres of land (Parcel 30). This release is to provide the Virginia Department of Transportation right-of-way along Routes 847 and 900. These roads were constructed under ADAP 6-51-0049-08 to extend runway 23. All associated pavement and right-of-way maintenance for the existing roads will be the responsibility of the Virginia Department of Transportation. There are no adverse impacts to the Airport and the land is not needed for airport development. The road sin their current position are shown on the Airport Layout Plan.

DATES: Comments must be received on or before June 25, 2004.

ADDRESSES: Comments on this application may be mailed or delivered in triplicate to the FAA at the following address: Terry J. Page, Manager, FAA Washington Airports District Office, 23723 Air Freight Lane, Suite 210, Dulles, VA 20116.

In addition, one copy of any comments submitted to the FAA must be mailed or delivered to Greg W. Campbell, Executive Director, Shenandoah Valley Regional Airport, at the following address: Greg W. Campbell, Executive Director, Shenandoah Valley Regional Airport commission, P.O. Box 125, Weyers Cave, VA 24486.

FOR FURTHER INFORMATION CONTACT: Terry Page, Manager, Washington Airports District Office, 23723 Air Freight Lane, Suite 210, Dulles, VA 20166; telephone (703) 661-1354, fax (703) 661-1370, email Terry.Page@faa.gov.

SUPPLEMENTARY INFORMATION: On April 5, 2000, new authorizing legislation became effective. That bill, the Wendell H. Ford Aviation Investment and Reform Act for the 21st Century, Public Law 10-181 (Apr. 5, 2000; 114 Stat. 61) (AIR 21) requires that a 30 day public notice must be provided before the Secretary may waive any condition imposed on an interest in surplus property.

Issued in Chantilly, Virginia on May 19, 2004.
Terry J. Page,
Manager, Washington District Office, Eastern Region.

[FR Doc. 04-11898 Filed 5-25-04; 8:45 am]

BILLING CODE 4910-13-M